DEPARTMENT OF DEFENSE

Office of the Secretary

[Docket ID DOD-2011-OS-0046]

Privacy Act of 1974; Systems of Records

AGENCY: Defense Logistics Agency, DoD.

ACTION: Notice to add a system of records.

SUMMARY: The Defense Logistics Agency proposes to add a system of records notice to its existing inventory of records systems subject to the Privacy Act of 1974, (5 U.S.C. 552a), as amended.

DATES: This proposed action will be effective without further notice on May 31, 2011 unless comments are received which result in a contrary determination.

ADDRESSES: You may submit comments, identified by docket number and/Regulatory Information Number (RIN) and title, by any of the following methods:

* Federal Rulemaking Portal: http://www.regulations.gov. Follow the instructions for submitting comments.

* Mail: Federal Docket Management System Office, 1160 Defense Pentagon, OSD Mailroom 3C843, Washington, DC 20301-1160.

Instructions: All submissions received must include the agency name and docket number or Regulatory Information Number (RIN) for this Federal Register document. The general policy for comments and other submissions from members of the public is of make these submissions available for public viewing on the Internet at http://www.regulations.gov as they are received without change, including any personal identifiers or contact information.

FOR FURTHER INFORMATION CONTACT: Ms. Jody Sinkler at (703) 767-5045, or the Privacy Act Officer, Headquarters, Defense Logistics Agency, Attn: DGA, 8725 John J. Kingman Road, Stop 16443, Fort Belvoir, VA 22060-6221.

SUPPLEMENTARY INFORMATION: The Defense Logistics Agency systems of records notices subject to the Privacy Act of 1974, (5 U.S.C. 552a), as amended, have been published in the Federal Register and are available from the FOR FURTHER INFORMATION CONTACT address above.

The proposed system reports, as required by 5 U.S.C. 552a (r), of the Privacy Act of 1974, as amended, were submitted on April 22, 2011, to the House Committee on Oversight and Government Reform, the Senate Committee on Homeland Security and Governmental Affairs, and the Office of Management and Budget (OMB) pursuant to paragraph 4c of Appendix I to OMB Circular No. A-130, `Federal Agency Responsibilities for Maintaining Records About Individuals,' dated February 8, 1996 (February 20, 1996, 61 FR 6427).

Dated: April 25, 2011.
Morgan F. Park,
Alternate OSD Federal Register Liaison Officer, Department of Defense

S110.85

System name:

Mandatory Declassification Review (MDR) Files.

System location:

DLA Information Security Office, 8725 John J Kingman Road, Suite 3533, Fort Belvoir, VA 22060-6221.

Categories of individuals covered by the system:

Individuals who request Mandatory Declassification Review (MDR) or appeal a Mandatory Declassification Review determination. These include DoD, Executive Branch Agencies, public or contractors.

Categories of records in the system:

Name and address of person making MDR request or appeal, records requested, dates, and summaries of action taken.

Authority for maintenance of the system:

E.O. 13526, Classified National Security Information; DoD Instruction 5200.01, DoD Information Security Program and Protection of Sensitive Compartmented Information.

Purpose(s):

To process requests and/or appeals from individuals for the mandatory review of classified documents for the purposes of releasing declassified material to the public; and to provide a research resource of historical data on release of records to ensure consistency in subsequent actions. Data developed from this system is used for the annual report required by the applicable Executive Order(s) governing classified National Security Information. This data also serves management needs, by providing information about the number of requests; the type or category of records requested; and the average processing time.

Routine uses of records maintained in the system, including categories of users and the purposes of such uses:

In addition to those disclosures generally permitted under 5 U.S.C. 552a(b) of the Privacy Act of 1974, these records may specifically be disclosed outside the DoD as a routine use pursuant to 5 U.S.C. 552a(b)(3) as follows:

The DoD “Blanket Routine Uses” apply to this system.

Policies and practices for storing, retrieving, accessing, retaining, and disposing of records in the system:

Storage:

Paper records in file folders.

Retrievability:

Retrieved by name of requester and other pertinent information, such as subject material describing the MDR item (including date), or any combination of fields.

Safeguards:

Records are maintained in a secure, limited access, and monitored work area. Physical entry by unauthorized persons is restricted by the use of locks, guards, and administrative procedures. Access to personal information is restricted to those who require the records in the performance of their official duties. All personnel whose official duties require access to the information are trained in the proper safeguarding and use of the information, and receive both annual Information Assurance Awareness and Privacy Act training.

Retention and disposal:

Mandatory review for declassification requests files.

(1) Records granting access to all the requested records are destroyed 2 years after date of reply.

(2) Requests responding to nonexistent records; to requesters who provide inadequate descriptions; and to those who fail to pay agency reproduction fees (requests not appealed are destroyed 2 years after date of reply; requests appealed are destroyed 4 years after final determination by agency.

(3) Records denying access to all or part of the records requested (requests not appealed are destroyed 5 years after date of reply; requests appealed are destroyed 4 years after final determination by agency).

Mandatory review for declassification appeals files are destroyed 4 years after final determination by agency.

Mandatory review for declassification control files. Registers or listings are destroyed 5 years after date. Other files are destroyed 5 years after final action by the agency.

Mandatory review for declassification reports files are destroyed when 2 years old.

Mandatory review for declassification administrative files are destroyed when 2 years old.

System manager(s) and address:

Director, DLA Intelligence, 8725 John J Kingman Road, Suite 3533, Fort Belvoir, VA 22060-6221.

Notification procedure:

Individuals seeking to determine whether information about themselves is contained in this system of records should address written inquiries to the DLA HQ FOIA/Privacy Act Office, Defense Logistics Agency Headquarters, Attn: DGA, 8725 John J. Kingman Road, Suite 1644, Fort Belvoir, VA 22060-6221.

Written requests should include the name and number of this system of records notice along with the individual's name and address at the time the record would have been created and be signed.

Record access procedures:

Individuals seeking access to information about themselves contained in this system of records should address written inquiries to the DLA HQ FOIA/Privacy Act Office, Defense Logistics Agency Headquarters, Attn: DGA, 8725 John J. Kingman Road, Suite 1644, Fort Belvoir, VA 22060-6221.

Written requests should include the name and number of this system of records notice along with the individual's name and address at the time the record would have been created and be signed.

Contesting record procedures:

The DLA rules for accessing records, for contesting contents, and appealing initial agency determinations are contained in 32 CFR part 323, or may be obtained from the DLA HQ FOIA/Privacy Act Office, Defense Logistics Agency Headquarters, Attn: DGA, 8725 John J. Kingman Road, Suite 1644, Fort Belvoir, VA 22060-6221.

Record source categories:

The subject individual.

Exemptions claimed for the system:

None.

[FR Doc. 2011-10368 Filed 4-28-11; 8:45 am]

BILLING CODE 5001-06-P